DEPARTMENT OF COMMERCE

National Oceanic and Atmospheric Administration

RIN 0648-XE033

North Pacific Fishery Management Council; Public Meeting

AGENCY: National Marine Fisheries Service (NMFS), National Oceanic and Atmospheric Administration (NOAA), Commerce.

ACTION: Notice of a public meeting.

SUMMARY: The North Pacific Fishery Management Council's (Council) Ecosystem Committee will meet in Juneau, AK.

DATES: The meeting will be held August 6-7, 2015, from 8 a.m. to 5 p.m.

ADDRESSES: The meeting will be held at the Ted Stevens Marine Research Institute, Auke Bay Laboratories, 17109 Pt. Lena Loop Road, Juneau, AK 99801.

Council address: North Pacific Fishery Management Council, 605 W. 4th Ave., Suite 306, Anchorage, AK 99501-2252.

FOR FURTHER INFORMATION CONTACT: Steve MacLean, Council staff; phone: (907) 271-2809.

SUPPLEMENTARY INFORMATION: The purpose of the Ecosystem Committee is to review progress on development of a strawman Fishery Ecosystem Plan (FEP) Module, and development of a discussion paper planned for presentation to the Council in December, 2015. The Committee will also discuss scheduling for future meetings. The Agenda is subject to change, and the latest version will be posted at http://www.npfmc.org/.

Special Accommodations

The meeting is physically accessible to people with disabilities. Requests for sign language interpretation or other auxiliary aids should be directed to Shannon Gleason at (907) 271-2809 at least 7 working days prior to the meeting date.

Dated: July 15, 2015.
Tracey L. Thompson,
Acting Deputy Director, Office of Sustainable Fisheries, National Marine Fisheries Service.

[FR Doc. 2015-17723 Filed 7-17-15; 8:45 am]

BILLING CODE 3510-22-P